DEPARTMENT OF STATE

[Public Notice: 11507]

Title Bureau of International Organization Affairs Stakeholder Listening Session in Preparation for the September 2021 UN Food Systems Summit

ACTION: Notice of listening session for the UN Food Systems Summit.

SUMMARY: The U.S. Department of State's Bureau of International Organization Affairs (IO)—which is responsible for coordinating the U.S. government's engagement in the UN Food Systems Summit in September 2021—will hold an informal Stakeholder Listening Session, along with the U.S. Agency for International Development and the U.S. Department of Agriculture, on Friday, September 3, 2021, from 10:00 a.m.-12:00 p.m. ET. The listening session will be held virtually, and the meeting link will be shared with registered participants prior to the session.

DATES: The listening session will be held on Friday, September 3, 2021, from 10:00 a.m.-12:00 p.m. Eastern Time (ET). Please register by Thursday, August 26, 2021. Registration is required for the event. Please send your full name, email address, organization, and any requests for reasonable accommodation to UNFSS@state.gov to register. Please RSVP no later than Thursday, August 26, 2021.

FOR FURTHER INFORMATION CONTACT: Please contact Claire Crites, Office Management Specialist, the Bureau of International Organization Affairs at telephone number 202-647-0154 or via email at UNFSS@state.gov.

SUPPLEMENTARY INFORMATION: The Stakeholder Listening Session will help U.S. departments and agencies prepare for the UN Food Systems Summit by taking full advantage of the knowledge, ideas, feedback, and suggestions from all communities interested in, and affected by, agenda items to be discussed at the UN Food Systems Summit. Your input will contribute to U.S. positions as we engage on food systems topics with our international colleagues. The listening session will be organized by agenda item, and participation is welcome from stakeholder communities, including:

• Organizations with an interest in food systems and food security

• State, local, and Tribal groups;

• Private industry;

• Academic and scientific organizations.

Written comments are welcome and encouraged, even if you are planning on attending the virtual session. Please send written comments to the email address: UNFSS@state.gov.

(Authority: 22 U.S.C. 2656, 2651a; and 5 U.S.C. 551 et seq.)

Monique Nowicki,
Food Systems Summit Coordinator, Office of Economic and Development Affairs, Bureau of International Organization Affairs, U.S. Department of State.

[FR Doc. 2021-17889 Filed 8-23-21; 8:45 am]

BILLING CODE 4710-19-P